DEPARTMENT OF ENERGY

Federal Energy Regulatory Commission

Notice of Commission Staff Attendance

December 29, 2011.

The Federal Energy Regulatory Commission hereby gives notice that members of the Commission's staff may attend the following meetings related to the transmission planning activities of the PJM Interconnection, L.L.C. (PJM):

Combined PJM Regional Transmission Planning Task Force/PJM Interconnection Process Senior Task Force

January 6, 2012, 9:30 a.m.-3 p.m., Local Time.

January 27, 2012, 9:30 a.m.-3 p.m., Local Time.

February 17, 2012, 9:30 a.m.-3 p.m., Local Time.

March 9, 2012, 9:30 a.m.-3 p.m., Local Time.

March 28, 2012, 9:30 a.m.-3 p.m., Local Time.

April 20, 2012, 9:30 a.m.-3 p.m., Local Time.

Combined PJM Markets and Reliability Committee/Members Committee

January 26, 2012, 9 a.m.-5 p.m., Local Time.

The above-referenced meetings will be held at:

The Chase Center on the Riverfront, Wilmington, DE.

The above-referenced meetings are open to stakeholders.

Further information may be found at www.pjm.com.

The discussions at the meetings described above may address matters at issue in the following proceedings:

Docket No. EL05-121, PJM Interconnection, L.L.C.

Docket No. ER06-456, ER06-954, ER06-1271, ER07-424, ER06-880, EL07-57, ER07-1186, ER08-229, ER08-1065, ER09-497, and ER10-268, PJM Interconnection, L.L.C.

Docket No. ER10-253 and EL10-14, Primary Power, L.L.C.

Docket No. EL10-52, Central Transmission, LLC v. PJM Interconnection, L.L.C.

Docket No. ER11-4070, RITELine Indiana et. al.

Docket No. ER11-2875 and EL11-20, PJM Interconnection, L.L.C.

Docket No. ER08-386 and ER09-1256, Potomac-Appalachian Transmission Highline, L.L.C.

Docket No. ER09-1589, FirstEnergy Service Company

Docket No. EL11-56, FirstEnergy Service Company

Docket No. ER11-1844, Midwest Independent Transmission System Operator, Inc.

Docket No. EL12-10, PJM Interconnection, L.L.C.

For more information, contact Jonathan Fernandez, Office of Energy Market Regulation, Federal Energy Regulatory Commission at (202) 502-6604 or jonathan.fernandez@ferc.gov.

Dated: December 29, 2011.
Kimberly D. Bose,
Secretary.

[FR Doc. 2012-8 Filed 1-5-12; 8:45 am]

BILLING CODE 6717-01-P